NUCLEAR REGULATORY COMMISSION

[NRC-2017-0145]

Applications for Nuclear Power Plants

AGENCY: Nuclear Regulatory Commission.

ACTION: Draft regulatory guide; request for comment.

SUMMARY: The U.S. Nuclear Regulatory Commission (NRC) is issuing for public comment a draft regulatory guide (DG), DG-1325, “Applications for Nuclear Power Plants.” This guidance is proposed Revision 1 to Regulatory Guide (RG) 1.206, “Combined License Applications for Nuclear Power Plants (LWR Edition),” dated June 2007. This proposed revision of RG 1.206 provides revised guidance for prospective applicants regarding the format and content of applications for new nuclear power plants. The proposed revision reflects the lessons learned regarding the review of nuclear power plant applications since 2007. The major change in this revision is the removal of detailed technical information on the format and content of a safety analysis report. Guidance on moving that information to NUREG-0800, “Standard Review Plan for the Review of Safety Analysis Reports for Nuclear Power Plants: LWR Edition,” is included in DG-1325.

DATES: Submit comments by September 18, 2017. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specified subject):

• Federal Rulemaking Web site: Go to http://www.regulations.gov and search for Docket ID NRC-2017-0145. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: TWFN-8D36M, U.S. Nuclear Regulatory Commission, Washington, DC 20555-0001. For additional direction on accessing information and submitting comments, see “Obtaining Information and Submitting Comments” in the SUPPLEMENTARY INFORMATION section of this document.

FOR FURTHER INFORMATION CONTACT: Mark Notich, Office of New Reactors, 301-415-3053, email: Mark.Notich@nrc.gov U.S. Nuclear Regulatory Commission, Washington, DC 20555-0001.

SUPPLEMENTARY INFORMATION:

I. Obtaining Information and Submitting Comments

A. Obtaining Information

Please refer to Docket ID NRC-2017-0145 when contacting the NRC about the availability of information regarding this document. You may obtain publicly-available information related to this document, by any of the following methods:

• Federal Rulemaking Web site: Go to http://www.regulations.gov and search for Docket ID NRC-2017-0145.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if available in ADAMS), is provided the first time that a document is referenced. The DG is electronically available in ADAMS under Accession No. ML15233A056.

• NRC's PDR: You may examine and purchase copies of public documents at the NRC's PDR, Room O1-F21, One White Flint North, 11555 Rockville Pike, Rockville, Maryland 20852.

B. Submitting Comments

Please include Docket ID NRC-2017-0145 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should also state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled “Applications for Nuclear Power Plants,” is a proposed revision temporarily identified by its task number, DG-1325, and is proposed Revision 1 of RG 1.206, currently titled “Combined License Applications for Nuclear Power Plants.” The guide provides revised guidance for prospective applicants regarding the format and content of applications for new nuclear power plants under the provisions in part 52 of title 10 of the Code of Federal Regulations (10 CFR), “Licenses, Certifications, and Approvals for Nuclear Power Plants.”

The DG-1325 reflects changes based on lessons learned regarding the review of nuclear power plant design certification (DC), early site permit (ESP), and combined license (COL) applications under 10 CFR part 52, since the initial issuance of RG 1.206 in 2007. The scope of the proposed revision has been expanded beyond combined license (COL) applications to more explicitly address the current application process related to applications for DC, ESP, and limited work authorizations and the title has been changed accordingly. It provides more integrated guidance regarding the overall format and content for COL, DC, and ESP applications and additionally reflects the NRC staff's position that, although the guidance therein is intended for applicability to power reactors with light-water reactor (LWR) technology, the revised RG will be generally applicable to other types of power reactors (i.e., non-LWRs).

The DG-1325 also satisfies the two remaining action items from the NRC's April 2013, Lessons Learned Report (ADAMS Accession No. ML13059A240) by (1) revising RG 1.206 to reflect lessons learned and (2) incorporating DC/COL ISG11, “Finalizing Licensing Basis Information,” (ADAMS Accession No. ML092890623) in the revised RG 1.206.” This proposed revision also reflects the removal of technical information relative to the 2007 version of RG 1.206. The NRC staff intends that NUREG-0800, “Standard Review Plan for the Review of Safety Analysis reports for Nuclear Power Plants: LWR Edition,” be used by applicants relative to the technical information and level of detail to be included in safety analysis reports for applications for COLs, DCs, and ESPs.

The guidance in DG-1325 is divided into two parts: Section C.1 provides guidance for the organization, content, and format of an application under 10 CFR part 52; and Section C.2 contains information and guidance on a number of application regulatory topics related to the preparation, submittal, acceptance, and review of applications. The application regulatory topics include updated guidance that will allow the withdrawal of interim staff guidance. The NRC staff intends to withdraw the following four documents upon issuance of the revised RG 1.206:

• DC/COL-ISG-011, “Interim Staff Guidance Finalizing Licensing Basis Information” (ADAMS Accession No. ML092890623),

• ESP/DC/COL-ISG-015, “Interim Staff Guidance on Post Combined License Commitments” (ADAMS Accession No. ML091671355),

• COL/ESP-ISG-04, “Interim Staff Guidance on the Definition of Construction and on Limited Work Authorizations” (ADAMS Accession No. ML082970729), and

• DC/COL ISG-08, “Final Interim Staff Guidance Necessary Content of Plant-Specific Technical Specifications When a Combined License is Issued” (ADAMS Accession No. ML083310259).

The NRC staff's periodic review of related guidance in RG 1.70, Revision 3 (ADAMS Accession No. ML14272A331), “Standard Format and Content of Safety Analysis Reports for Nuclear Power Plants (LWR),” in September 2014, recommended the withdrawal of RG 1.70 once information relevant to the licensing of nuclear power plants under 10 CFR part 50 is included in an update to RG 1.206. The additional scope related to construction permits and operating licenses was envisioned for a later update to RG 1.206 and is not included in the current proposed revision.

III. Backfitting and Issue Finality

Draft regulatory guide DG-1325, if finalized as a new regulatory guide, would provide guidance for applicants regarding the format and content of applications for new ESPs, DCs, and COLs under 10 CFR part 52. Issuance of this DG in final form would not constitute backfitting under 10 CFR part 50 and would not otherwise be inconsistent with the issue finality provisions in 10 CFR part 52. As discussed in the “Implementation” section of this DG, the NRC has no current intention to impose the DG, if finalized, on current holders of ESPs or COLs or a DC applicant under 10 CFR part 52.

The DG, if finalized, could be applied to applications for 10 CFR part 52 ESPs, COLs, and DCs. Such action would not constitute backfitting as defined in 10 CFR 50.109 (the Backfit Rule) or be otherwise inconsistent with the applicable issue finality provision in 10 CFR part 52, inasmuch as such applicants are not, with certain exceptions, protected by either the Backfit Rule or any issue finality provisions under 10 CFR part 52. This is because neither the Backfit Rule nor the issue finality provisions under 10 CFR part 52—with certain exclusions discussed below—were intended to apply to every NRC action that substantially changes the expectations of current and future applicants. The exceptions to the general principle are applicable whenever an applicant references a 10 CFR part 52 license (e.g., an early site permit), the NRC regulatory approval (e.g., a design certification rule), or both, with specified issue finality provisions. The staff does not, at this time, intend to impose the positions represented in DG-1325 (if finalized) in a manner that is inconsistent with any issue finality provisions. If, in the future, the staff seeks to impose a position in DG-1325 (if finalized) in a manner that does not provide issue finality as described in the applicable issue finality provision, then the staff must address the criteria for avoiding issue finality as described in the applicable issue finality provision.

Dated at Rockville, Maryland, this 15th day of June, 2017.
For the Nuclear Regulatory Commission.
Joseph Colaccino,
Chief, New Reactor Rulemaking and Guidance Branch, Division of Engineering and Infrastructure, Office of New Reactors.

[FR Doc. 2017-12837 Filed 6-19-17; 8:45 am]

BILLING CODE 7590-01-P